DEPARTMENT OF LABOR

Pension and Welfare Benefits Administration

Working Group on the Challenge to the Employment-Based Healthcare System Advisory Council on Employee Welfare and Pension Benefits Plans; Notice of Meeting

Pursuant to the authority contained in section 512 of the Employee Retirement Income Security Act of 1974 (ERISA), 29 U.S.C. 1142, a public meeting will be held Tuesday, April 10, 2001, of the Advisory Council on Employee Welfare and Pension Benefits Plans Working Group assigned to study the challenge to the employment-based healthcare system.

The session will take place in Room N-5437 A-D, U.S. Department of Labor Building, Second and Constitution Avenue, NW., Washington, DC 20210. The purpose of the open meeting, which will run from 9:30 a.m. to approximately noon., is for working group members to organize their study efforts for the year and by beginning to take testimony on the future of employment-based health care. Rising health care costs and increased regulation have caused some employers to question whether or not they want to continue to participate in this voluntary system.

Working Group chair is Carl Camden, executive vice president of field operations, sales and marketing for Kelly Services, Inc., Troy, Mich. Vice chair is Ronnie Susan Thierman, senior consultant, William M. Mercer, Inc., San Francisco, Calif.

Members of the public are encouraged to file a written statement pertaining to the topic by submitting 20 copies on or before April 1, 2001, to Sharon Morrissey, Executive Secretary, ERISA Advisory Council, U.S. Department of Labor, Room N-5677, 200 Constitution Avenue, NW., Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by April 1, at the address indicated in this notice.

Organizations or individuals may also submit statements for the record without testifying. Twenty (20) copies of such statements should be sent to the Executive Secretary of the Advisory Council at the above address. Papers will be accepted and included in the record of the meeting if received on or before April 1.

Signed at Washington, DC this 13th day of March 2001.
Alan D. Lebowitz,
Acting Assistant Secretary, Pension and Welfare Benefits Administration.

[FR Doc. 01-6782 Filed 3-19-01; 8:45 am]

BILLING CODE 4510-29-M